DEPARTMENT OF LABOR

Employment and Training Administration

Notice of Availability of Funds and Solicitation for Grant Applications for the Youth CareerConnect Program

AGENCY: Employment and Training Administration, Labor.

ACTION: Notice of solicitation for grant applications.

Funding Opportunity Number: SGA/DFA PY-13-01.

SUMMARY: The Employment and Training Administration (ETA), U.S. Department of Labor (DOL), announces the availability of approximately $100 million in grant funds, authorized under Section 414(c) of the American Competitiveness and Workforce Improvement Act of 1998 (ACWIA), as amended (codified at 29 U.S.C. 2916a), for the Youth CareerConnect grant program. The program is designed to provide high school students with education and training that combines rigorous academic and technical curricula focused on specific in-demand occupations and industries for which employers are using H-1B visas to hire foreign workers as well as the related activities necessary to support such training to increase participants' employability in H-1B in-demand industries and occupations. Furthermore, given the large number of H-1B visas in science, technology, engineering and math (STEM) industries, pending high quality proposals, DOL expects a large share of the grants to support education and training in STEM industries. The ultimate goals for the program are to ensure that participants gain academic and occupational skills by completing the program and graduating from high school; move into a positive placement following high school that includes unsubsidized employment, post-secondary education, long-term occupational skills training, or Registered Apprenticeship; obtain an industry-recognized credential in an H-1B industry or occupation for those industries where credential attainment is feasible by program completion, in addition to a high school diploma; and earn post-secondary credit towards a degree or credit-bearing certificate issued by an institution of higher education.

As stated under Section 414(c) of ACWIA, grants under this SGA will be awarded to partnerships of public and private sector entities. Approximately $100 million is expected to be available to fund approximately 25 to 40 grants. DOL intends to fund grants ranging from $2 million to $7 million. Grants can be used to fund programs in a single site or to fund multi-site programs.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is January 27, 2014. Applications must be received no later than 4:00:00 p.m. Eastern Time.

FOR FURTHER INFORMATION CONTACT: Ariam Ferro, 200 Constitution Avenue NW., Room N-4716, Washington, DC 20210; Telephone: 202-693-3968.

Signed November 18, 2013 in Washington, DC by
Eric D. Luetkenhaus,
Grant Officer, Employment and Training Administration.

[FR Doc. 2013-28044 Filed 11-20-13; 8:45 am]

BILLING CODE 4510-FN-P